Proclamation 9436 of April 29, 2016

Older Americans Month, 2016

By the President of the United States of America

A Proclamation

Through a lifetime of contribution, older Americans have helped ensure that the founding promise of our country remains within reach for their children and grandchildren, and their individual narratives reflect the extraordinary history of our Nation. This month, we celebrate our Nation's older citizens, and we show our appreciation for all they have done to enrich our communities and drive America forward.

Older Americans have unique knowledge and a breadth of insights that are tremendous assets to our country—and our seniors are eager to impart the wisdom learned from their experiences. Across our country, older Americans work and volunteer in their communities, challenging younger Americans' ambitions for what they can hope to achieve in their golden years. We must maximize the contributions of our seniors and ensure they have the resources and support they need to thrive and to keep shaping the future of the country they love.

The population of the United States is transforming rapidly. Within the next 13 years, more than one in five Americans will be of retirement age, and our Nation must make it a priority to ensure they are able to retire and live with dignity and respect. I remain committed to strengthening Medicare and Social Security—hallmark programs that enabled an entire generation of older Americans to live with stability and security. Aging affects us all, and I am dedicated to empowering more of today's seniors and future seniors. In 2014, I launched myRA, a new type of savings bond that allows more of our people to save for retirement. And earlier this year, I was proud to sign a reauthorization of the Older Americans Act—providing critical support for the services seniors depend on to maintain their health and independence.

Our country has an obligation to make sure older Americans can enjoy the opportunities that come with aging, and my Administration is committed to supporting our seniors. Last summer, we held the White House Conference on Aging, where we announced our plans to modernize Federal rules affecting older Americans, improve access to workplace-based retirement plans, and better utilize technology to enrich the lives of older Americans. We launched www.Aging.gov—a resource for government-wide information for older adults to lead independent and fulfilling lives. And we have proposed updating quality and safety requirements for thousands of nursing homes, making it easier for homebound individuals to get nutritional assistance, and training more prosecutors to combat elder abuse.

One of the best measures of a country is how it treats its older citizens. During Older Americans Month, let us pay tribute to the men and women who raised, guided, and inspired us, and let us honor their enduring contributions to our society by safeguarding their rights and the opportunities they deserve.

NOW, THEREFORE, I, BARACK OBAMA, President of the United States of America, by virtue of the authority vested in me by the Constitution and the laws of the United States, do hereby proclaim May 2016 as Older Americans Month. I call upon Americans of all ages to celebrate the contributions of older Americans during this month and throughout the year.

IN WITNESS WHEREOF, I have hereunto set my hand this twenty-ninth day of April, in the year of our Lord two thousand sixteen, and of the Independence of the United States of America the two hundred and fortieth.

[FR Doc. 2016-10649

Filed 5-3-16; 11:15 am]

Billing code 3295-F6-P